DEPARTMENT OF COMMERCE

Foreign-Trade Zones Board

[S-59-2020]

Approval of Subzone Status; Oldach Associates, LLC; Cataño, Puerto Rico

On April 7, 2020, the Executive Secretary of the Foreign-Trade Zones (FTZ) Board docketed an application submitted by the Department of Economic Development and Commerce, grantee of FTZ 61, requesting subzone status subject to the existing activation limit of FTZ 61, on behalf of Oldach Associates, LLC, in Cataño, Puerto Rico.

The application was processed in accordance with the FTZ Act and Regulations, including notice in the Federal Register inviting public comment (85 FR 20665, April 14, 2020). The FTZ staff examiner reviewed the application and determined that it meets the criteria for approval.

Pursuant to the authority delegated to the FTZ Board Executive Secretary (15 CFR 400.36(f)), the application to establish Subzone 61Z was approved on June 9, 2020, subject to the FTZ Act and the Board's regulations, including § 400.13, and further subject to FTZ 61's 1,821.07-acre activation limit.

Dated: June 9, 2020.
Andrew McGilvray,
Executive Secretary.

[FR Doc. 2020-12706 Filed 6-11-20; 8:45 am]

BILLING CODE 3510-DS-P